DEPARTMENT OF ENERGY

Federal Energy Regulatory Commission

[Project No. 1895-007 South Carolina]

South Carolina Electric & Gas Company; Notice of Intent To Conduct Public Scoping Meetings and Site Visit

March 23, 2000. The Federal Energy Regulatory Commission (Commission or FERC) received an application from the South Carolina Electric & Gas Company (SCE&G or Applicant) to relicense the Columbia Hydroelectric Project No. 1895-007. The 10,600-kilowatt (kW) project is located on the Broad River and Congaree River in the City of Columbia and Richland County, South Carolina. The Commission will hold public and agency scoping meetings on April 12 and 13, 2000, for preparation of an Environmental Assessment (EA) under the national Environmental Policy Act (NEPA) for the issuance of a major license for the project.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

Date: Thursday, April 13, 2000

Time: 9 a.m.

Place: South Carolina Department of Natural Resources, (Rm 335 of the Rembert Dennis Building)

Address: 1000 Assembly Street, Columbia, SC

Public Scoping Meeting

Date: Wednesday, April 12, 2000

Time: 7 p.m.

Place: South Carolina State Museum (Red Room)

Address: 301 Gervais Street, Columbia, SC

To help focus discussions, we will distribute a Scoping Document outlining the subject areas to be addressed at the meeting to the parties on the Commission's mailing list. Copies of this document will also be available at the scoping meetings.

Site Visit

The Applicant and FERC staff will conduct a project site visit beginning at 1:00 p.m. on April 12, 2000. All interested individuals, organizations, and agencies are invited to attend. All participants should meet at the parking lot of the Columbia Hydroelectric Plant off of Gervais Street. All participants are responsible for their own transportation to the site. Anyone with questions about the site visit should contact Christina Massey of SCE&G at 803-217-9198.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the relative depth of analysis for issues to be addressed in the EA; and (5) identify resources this project does not effect and, therefore, do not require detailed analysis.

Procedures

Statements made at the meetings will be recorded by a stenographer and will become part of the formal record of the Commission proceeding on the project. In addition, written scoping comments may be filed with the Secretary, Federal Energy Regulatory Commission, 888 First Street, NE, Washington, DC 20426, until May 15, 2000. All filings should contain an original and eight copies, and must clearly show at the top of the first page “Columbia Hydroelectric Project, FERC No. 1895-007”.

Individuals, organizations, and agencies with environmental concerns related to the Columbia Hydroelectric Project are encouraged to attend the meetings and to assist the staff in defining the issues to be addressed in the EA. For further information, please contact Charles Hall at 202-219-2853, or e-mail charles.hall@ferc.fed/us.

Linwood A. Watson, Jr.
Acting Secretary.

[FR Doc. 00-7672 Filed 3-28-00; 8:45 am]

BILLING CODE 6717-01-M